MERIT SYSTEMS PROTECTION BOARD

Publication of Open Government Directive

AGENCY: U.S. Merit Systems Protection Board.

ACTION: NOTICE: Solicitation of public comment.

SUMMARY: On April 7, 2010, the U.S. Merit Systems Protection Board (MSPB or Board) published MSPB's Open Government Plan pursuant to direction set forth in President Obama's January 21, 2009, Memorandum on Transparency and Open Government, and the Office of Management and Budget's (OMB) December 8, 2009, Open Government Directive. The MSPB is hereby requesting public comment on MSPB's Open Government Plan.

DATES: Submit comments concerning the MSPB Open Government Plan by May 27, 2010 to ensure prompt consideration by MSPB's Open Government Working Group. Comments received after May 27, 2010 will also be provided to MSPB's Open Government Working Group.

ADDRESSES: Comments may be mailed to William D. Spencer, Clerk of the Board, Merit Systems Protection Board, 1615 M Street, NW., Washington, DC 20419, or e-mailed to mspb@mspb.gov.

FOR FURTHER INFORMATION CONTACT: William D. Spencer, Clerk of the Board, Merit Systems Protection Board, 1615 M Street, NW., Washington, DC 20419.

SUPPLEMENTARY INFORMATION: On January 21, 2009, President Obama issued a memorandum titled “Transparency and Open Government” (Presidential Memorandum). The Presidential Memorandum set forth the administration's commitment to creating an unprecedented level of openness in government built upon three principles: (1) Transparency—the government should provide the public with information about its activities; (2) Participation—the government should provide the public with the opportunity to participate in policy-making; and (3) Collaboration—departments and agencies should collaborate with all levels of government, nonprofit entities, businesses, and the public. The Presidential Memorandum is available on the Internet at http://www.whitehouse.gov/the_press_office/Transparency_and_Open_. The Presidential Memorandum also ordered the Director of OMB to issue an Open Government Directive (Directive) instructing executive departments and agencies to take specific actions to implement the principles outlined in the Presidential Memorandum.

On December 8, 2009, OMB issued the Directive. The Directive requires agencies to take four specific actions within set time periods. The four specific actions are: (1) Publication of three high-value data sets; (2) designation of a senior agency official to be accountable for all publicly disseminated Federal spending information; (3) creation of an Open Government Web page; and (4) development and publication of an Open Government Plan. The Directive is available on the Internet at http://www.whitehouse.gov/open/documents/open-government-directive. An agency's Open Government Plan, according to the Directive, “is the public roadmap that details how [the] agency will incorporate the principles of the President's January 21, 2009, Memorandum on Transparency and Open Government into the core mission objectives of [the] agency.” Open Government Plans are to set forth how each agency plans to improve transparency, public participation, and collaboration. Open Government Plans are also required to describe at least one “flagship initiative” the agency is already implementing or will implement to improve transparency, public participation, or collaboration.

MSPB's Open Government Plan was published on April 7, 2010, and is available on MSPB's open government Web page at http://www.mspb.gov/open/index.htm. The MSPB hereby invites comments on MSPB's Open Government Plan, suggestions concerning how MSPB can improve openness in government through greater transparency, participation and collaboration, and suggestions concerning the high value data and other information the public would like MSPB to disclose.

Dated: April 22, 2010.
William D. Spencer,
Clerk of the Board.

[FR Doc. 2010-9706 Filed 4-26-10; 8:45 am]

BILLING CODE 7401-01-P